DEPARTMENT OF TRANSPORTATION

Federal Motor Carrier Safety Administration

Sunshine Act Meetings; Unified Carrier Registration Plan Board of Directors

AGENCY: Federal Motor Carrier Safety Administration (FMCSA), DOT.

Time and Date: January 12, 2010, from 11 a.m. until 5 p.m., Pacific Standard Time.

Place: This meeting will take place at the Horton Grand Hotel, 311 Island Avenue, San Diego, CA 92101.

Status: Open to the public.

Matters To Be Considered: The Unified Carrier Registration Plan Board of Directors (the Board) will continue its work in developing and implementing the Unified Carrier Registration Plan and Agreement and to that end, may consider matters properly before the Board.

FOR FURTHER INFORMATION CONTACT: Mr. Avelino Gutierrez, Chair, Unified Carrier Registration Board of Directors at (505) 827-4565.

Issued on: December 4, 2009.
Larry W. Minor,
Associate Administrator for Policy and Program Development.

[FR Doc. E9-29464 Filed 12-7-09; 4:15 pm]

BILLING CODE 4910-EX-P